DEPARTMENT OF HOMELAND SECURITY

Coast Guard

33 CFR Part 117

[Docket No. USCG-2013-0665]

Drawbridge Operation Regulation; Milford Haven Inlet, Hudgins, VA

AGENCY: Coast Guard, DHS.

ACTION: Notice of deviation from drawbridge regulation.

SUMMARY: The Coast Guard has issued a temporary deviation from the operating schedule that governs the VA State Route 223 Bridge (Gwynn's Island) across the Milford Haven Inlet, mile 0.1, at Hudgins, Virginia. The deviation is necessary to rehabilitate the bridge, including repair of the truss, the bridge signals, and the tender house. This deviation allows the bridge to remain in the closed-to-navigation position for up to four separate 24-hour periods, if needed.

DATES: This deviation is effective from 7 a.m. October 3, 2013 to 9 p.m. March 31, 2014.

ADDRESSES: The docket for this deviation, [USCG-2013-0665] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mrs. Jessica Shea, Bridge Management Specialist, Fifth Coast Guard District, telephone (757) 398-6422, email jessica.c.shea2@uscg.mil. If you have questions on viewing the docket, call Barbara Hairston, Program Manager, Docket Operations, telephone (202) 366-9826.

SUPPLEMENTARY INFORMATION: The bridge owner, the Virginia Department of Transportation (VDOT), is conducting maintenance on the Route 223 swing bridge over Milford Haven Inlet near Hudgins, Virginia. VDOT requested a deviation from the requirement to open on signal as required by 33 CFR 117.5 in order to facilitate the rehabilitation work. The deviation period commences at 7 a.m. on October 3, 2013 and goes through 9 p.m. March 31, 2014. During the deviation period, the construction work may require four 24-hour periods where the bridge will be unable to open to navigation. Due to restrictions based on vehicular transportation needs, the 24-hour periods will not be consecutive.

Under the regular operating schedule where the bridge opens on signal, the bridge opens up to ten times every day for commercial fishing vessels and Coast Guard vessels at Station Milford Haven. The vertical clearance of the swing bridge in the closed-to-navigation position is 12 feet at mean high water. Vessels able to pass through the bridge in the closed position may do so at any time and are advised to proceed with caution. The bridge will not be able to open for emergencies during any of the four 24-hour closure periods. The southern approach to Gywnn's Island by Sandy Point, VA can be used as an alternate route for vessels able to transit in water depths of two feet. The Coast Guard will use Local and Broadcast Notices to Mariners at least seven days in advance of the changes in operating schedule so that vessels can arrange their transits to minimize any impacts caused by the temporary deviation.

In accordance with 33 CFR 117.35(e), the drawbridge must return to its regular operating schedule immediately at the end of the effective period of this temporary deviation. This deviation from the operating regulations is authorized under 33 CFR 117.35.

Dated: July 29, 2013.
Waverly W. Gregory, Jr.,
Bridge Program Manager, Fifth Coast Guard.

[FR Doc. 2013-19208 Filed 8-7-13; 8:45 am]

BILLING CODE 9110-04-P